DEPARTMENT OF LABOR

Employment and Training Administration

[TA-W-50,061, TA-W-50,061A]

VF Jeanswear, Limited Partnership, a Susidiary of VF Corporation, Woodstock, Virginia, VF Jeanswear, Limited Partnership, a Subsidiary of VF Corporation, Lebanon, Missouri; Amended Certification Regarding Eligibility To Apply for Worker Adjustment Assistance

In accordance with section 223 of the Trade Act of 1974 (19 U.S.C. 2273) the Department of Labor issued a Certification of Eligibility to Apply for Worker Adjustment Assistance on December 2, 2002, applicable to workers of VF Jeanswear, Limited Partnership, located in Woodstock, Virginia. The notice will soon be published in the Federal Register.

At the request of the State agency, the Department reviewed the certification for workers of the subject firm. The Department found that the decision inadvertently omitted the workers of VF Jeanswear, Limited Partnership, located in Lebanon, Missouri, producing jeans and casual pants.

It is the Department's intent to provide coverage to all workers of VF Jeanswear, Limited Partnership, adversely affected by the shift in production to Mexico. Accordingly, the Department is amending the certification to expand coverage to the workers at VF Jeanswear, Limited Partnership, Lebanon, Missouri.

The amended notice applicable to TA-W-50,061 is hereby issued as follows:

All workers of VF Jeanswear, Limited Partnership, Woodstock, Virginia (TA-W-50,061), and Lebanon, Missouri (TA-W-50,061A), who became totally or partially separated from employment on or after November 6, 2001 through December 2, 2004, are eligible to apply for adjustment assistance under section 223 of the Trade Act of 1974.

Signed at Washington, DC, this 20th day of December 2002.
Linda G. Poole,
Certifying Officer, Division of Trade Adjustment Assistance.

[FR Doc. 03-416 Filed 1-8-03; 8:45 am]

BILLING CODE 4510-30-P